DEPARTMENT OF HOMELAND SECURITY

Federal Emergency Management Agency

44 CFR Part 65

[Docket ID FEMA-2011-0002; Internal Agency Docket No. FEMA-B-1191]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona: Maricopa | Town of Cave Creek, (10-09-2786P) | February 17, 2011; February 24, 2011; The Arizona Business Gazette | The Honorable Vincent Francia, Mayor, Town of Cave Creek, 37622 Cave Creek Road, Cave Creek, AZ 85331 | June 24, 2011 | 040129
California:
Ventura | City of Camarillo, (10-09-2501P) | February 4, 2011; February 11, 2011; The Ventura County Star | The Honorable Mike Morgan, Mayor, City of Camarillo, 601 Carmen Drive, Camarillo, CA 93010 | June 13, 2011 | 065020
Ventura | City of Moorpark, (10-09-2904P) | February 4, 2011; February 11, 2011; The Ventura County Star | The Honorable Janice S. Parvin, Mayor, City of Moorpark, 799 Moorpark Avenue, Moorpark, CA 93021 | June 13, 2011 | 060712
Ventura | Unincorporated areas of Ventura County, (10-09-2501P) | February 4, 2011; February 11, 2011; The Ventura County Star | Ms. Linda Parks, Chair, Ventura County Board of Supervisors, 800 South Victoria Avenue, Ventura, CA 93009 | June 13, 2011 | 060413
Ventura | Unincorporated areas of Ventura County, (10-09-2904P) | February 4, 2011; February 11, 2011; The Ventura County Star | Ms. Linda Parks, Chair, Ventura County Board of Supervisors, 800 South Victoria Avenue, Ventura, CA 93009 | June 13, 2011 | 060413
Colorado:
Adams | City of Thornton, (10-08-0748P) | February 17, 2011; February 24, 2011; The Northglenn-Thornton Sentinel | The Honorable Mack Goodman, Mayor Pro Tempore, City of Thornton, 9500 Civic Center Drive, Thornton, CO 80229 | June 24, 2011 | 080007
Adams | Unincorporated areas of Adams County, (10-08-0748P) | February 17, 2011; February 24, 2011; The Northglenn-Thornton Sentinel | Mr. W. R. “Skip” Fischer, Chair, Adams County Board of Commissioners, 4430 South Adams County Parkway, Brighton, CO 80601 | June 24, 2011 | 080001
Douglas | Unincorporated areas of Douglas County, (11-08-0030P) | February 10, 2011; Feburary 17, 2011; The Douglas County News-Press | Ms. Jill Repella, Chair, Douglas County Board of Commissioners, 100 3rd Street, Castle Rock, CO 80104 | June 17, 2011 | 080049
El Paso | City of Colorado Springs, (10-08-0471P) | January 5, 2011; January 12, 2011; The El Paso County Advertiser and News | The Honorable Lionel Rivera, Mayor, City of Colorado Springs, P.O. Box 1575, Colorado Springs, CO 80901 | December 29, 2010 | 080060
Summit | Town of Breckenridge, (10-08-0858P) | February 25, 2011; March 4, 2011; The Summit County Journal | The Honorable John Warner, Mayor, Town of Breckenridge, P.O. Box 168, Breckenridge, CO 80424 | July 5, 2011 | 080172
Summit | Unincorporated areas of Summit County, (10-08-0858P) | February 25, 2011; March 4, 2011; The Summit County Journal | Ms. Karn Stiegelmeier, Chair, Summit County Board of Commissioners, P.O. Box 68, Breckenridge, CO 80424 | July 5, 2011 | 080290
Florida:
Lee | Unincorporated areas of Lee County, (10-04-7794P) | November 3, 2010; November 10, 2010; The News-Press | Mr. Frank Mann, Chair, Lee County Board of Commissioners, 2115 2nd Street Fort Myers, FL 33901 | October 27, 2010 | 125124
Monroe | City of Key West, (11-04-2484X) | February 9, 2011; February 16 2011; The Key West Citizen | The Honorable Craig Cates, Mayor, City of Key West, 525 Angela Street, Key West, FL 33040 | January 31, 2011 | 120168
Monroe | Unincorporated areas of Monroe County, (11-04-2484X) | February 9, 2011; February 16 2011; The Key West Citizen | The Honorable Heather Carruthers, Mayor, Monroe County, 1100 Simonton Street, Key West, FL 33040 | January 31, 2011 | 125129
Orange | City of Ocoee, (10-04-8380P) | February 22, 2011; March 1, 2011; The Orlando Sentinel | The Honorable S. Scott Vandergrift, Mayor, City of Ocoee, 150 North Lakeshore Drive, Ocoee, FL 34761 | February 14, 2011 | 120185
Hawaii: Hawaii | Unincorporated areas of Hawaii County, (10-09-3793P) | January 3, 2011; January 10, 2011; The Hawaii Tribune-Herald | The Honorable William P. Kenoi, Mayor, Hawaii County, 25 Aupuni Street, Hilo, HI 96720 | May 10, 2011 | 155166
North Carolina:
Caldwell | Unincorporated areas of Caldwell County, (10-04-7739P) | January 20, 2011; January 27, 2011; The Lenoir News-Topic | Mr. Ben Griffin, Chair, Caldwell County Board of Commissioners, P.O. Box 2200, 905 West Avenue, NW, Lenoir, NC 28645 | May 27, 2011 | 370039
Dare | Town of Kill Devil Hills, (10-04-3184P) | November 9, 2010; November 16, 2010; The Coastland Times | The Honorable Raymond Sturza, Mayor, Town of Kill Devil Hills, P.O. Box 1719, Kill Devil Hills, NC 27948 | October 29, 2010 | 375353
Wake | Town of Apex, (10-04-4743P) | January 28, 2011; February 4, 2011; The News & Observer | The Honorable Keith H. Weatherly, Mayor, Town of Apex, 73 Hunter Street, Apex, NC 27502 | June 6, 2011 | 370467
Tennessee: Sullivan | City of Kingsport, (10-04-7017P) | February 14, 2011; February 21, 2011; The Kingsport Times-News | The Honorable Dennis R. Phillips, Mayor, City of Kingsport, 225 West Center Street, Kingsport, TN 37660 | June 21, 2011 | 470184
Utah: Washington | City of St. George, (11-08-0105P) | February 11, 2011; Feburary 18, 2011; The Spectrum | The Honorable Daniel D. McArthur, Mayor, City of St. George, 175 East 200 North, St. George, UT 84770 | February 4, 2011 | 490177
Wyoming: Uinta | Unincorporated areas of Uinta County, (10-08-0740P) | December 17, 2010; December 24, 2010; The Uinta County Herald | Mr. Mick Powers, Chair, Uinta County Board of Commissioners, 225 9th Street, Evanston, WY 82930 | April 25, 2011 | 560053

(Catalog of Federal Domestic Assistance No. 97.022, “Flood Insurance.”)

Dated: April 8, 2011.
Sandra K. Knight,
Deputy Federal Insurance and Mitigation Administrator, Mitigation, Department of Homeland Security, Federal Emergency Management Agency.

[FR Doc. 2011-9344 Filed 4-15-11; 8:45 am]

BILLING CODE 9110-12-P